NATIONAL AERONAUTICS AND SPACE ADMINISTRATION

[Notice (14-086)]

Government-Owned Inventions, Available for Licensing

AGENCY: National Aeronautics and Space Administration.

ACTION: Notice of Availability of Inventions for Licensing.

SUMMARY: The inventions listed below assigned to the National Aeronautics and Space Administration, have been filed in the United States Patent and Trademark office, and are available for licensing.

DATES: September 11, 2014.

FOR FURTHER INFORMATION CONTACT: Edward K. Fein, Patent Counsel, Johnson Space Center, Mail Code AL, 2101 NASA Parkway, Houston, TX 77058, (281) 483-4871; (281) 483-6936 [Facsimile].

NASA Case No.: MSC-24314-2: High-Density Spot Seeding for Tissue Model Formation.

Sumara M. Thompson-King,
General Counsel.

[FR Doc. 2014-21608 Filed 9-10-14; 8:45 am]

BILLING CODE 7510-13-P